CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps VISTA Application and Reporting for review and approval in accordance with the Paperwork Reduction Act of 1995, Public Law 104-13, (44 U.S.C. Chapter 35). Copies of this ICR, with applicable supporting documentation, may be obtained by calling the Corporation for National and Community Service, Kelly Daly, at (202) 606-6849 or e-mail to vista@americorps.gov. Individuals who use a telecommunications device for the deaf (TTY-TDD) may call 1-800-833-3722 between 8 a.m. and 8 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on February 18, 2011. This comment period ended April 19, 2011. Three public comments were received from this notice that all dealt with the budget for program grants, and asked that line items being removed from the existing budget instructions be retained. The decision to remove those line items (such as supplies) stands based on General Counsel's interpretation of our legislation. Additional comments were made regarding the lack of definitions for questions/categories in our online help system. The online help system will be reviewed and descriptive text added. Description: The Corporation is seeking approval of its AmeriCorps VISTA Concept Paper, Application and Budget Instructions, Project Progress Report (PPR) and Progress Report Supplement (VPRS) which are used by potential and current AmeriCorps VISTA sponsors. The Corporation is proposing to merge two current information collection requests into one information collection request consisting of four instruments.

The information collection will otherwise be used in the same manner as the currently approved information collection requests. The Corporation also seeks to continue using the current information collections until the renewal is approved by OMB. The current information collection requests are due to expire on May 11, 2011 and September 30, 2011.

Type of Review: Renewal.

Agency: Corporation for National and Community Service.

Title: AmeriCorps VISTA Application and Instructions.

OMB Number: 3045-0038.

Agency Number: None.

Affected Public: Potential sponsors, current sponsoring organizations, current subsite organizations, and VISTAs.

Instrument: Concept Paper

Total Respondents: 3,200 for the concept paper.

Frequency: One time.

Average Time per Response: Two hours for Concept Paper

Estimated Total Burden Hours: 6,400 hours.

Total Burden Cost (capital/startup): None.

Total Burden Cost (operating/maintenance): None.

Instrument: Application and Budget Instructions

Total Respondents: 1,000 for the full application.

Frequency: Annually.

Average Time per Response: 15 hours for application.

Estimated Total Burden Hours: 15,000 hours.

Total Burden Cost (capital/startup): None.

Total Burden Cost (operating/maintenance): None.

AmeriCorps*VISTA Project Progress Reports

OMB Number: 3045-0043.

Agency Number: None.

Instrument: Project Progress Report

Total Respondents: 1,100.

Frequency: Quarterly.

Average Time per Response: 7 hours.

Estimated Total Burden Hours: 30,800 hours.

Total Burden Cost (capital/startup): None.

Total Burden Cost (operating/maintenance): None.

Instrument: VISTA Progress Report Supplement,

Total Respondents: 1,100.

Frequency: Annual.

Average Time per Response: 9 hours.

Estimated Total Burden Hours: 9,900 hours.

Total Burden Cost (capital/startup): None.

Total Burden Cost (operating/maintenance): None.

Dated: May 23, 2011.
Paul Davis,
Acting AmeriCorps VISTA Director.

[FR Doc. 2011-13288 Filed 5-26-11; 8:45 am]

BILLING CODE 6050-$$-P